DEPARTMENT OF COMMERCE

International Trade Administration

[C-357-819, C-580-862]

Ni-Resist Piston Inserts From Argentina and the Republic of Korea: Notice of Postponement of Preliminary Determination in the Countervailing Duty Investigations

AGENCY: Import Administration, International Trade Administration, Department of Commerce.

DATES: Effective Date: March 20, 2009.

FOR FURTHER INFORMATION CONTACT: John Conniff (Republic of Korea) or Kristen Johnson (Argentina), AD/CVD Operations, Office 3, Import Administration, International Trade Administration, U.S. Department of Commerce, 14th Street and Constitution Avenue, NW., Washington, DC 20230; telephone 202-482-1009 and (202) 482-4793, respectively.

SUPPLEMENTARY INFORMATION:

Background

On February 23, 2009, the Department of Commerce (the Department) initiated the countervailing duty investigations of ni-resist piston inserts from Argentina and the Republic of Korea. See Ni-Resist Piston Inserts from Argentina and the Republic of Korea: Initiation of Countervailing Duty Investigations, 74 FR 8054, and (February 23, 2009).

Postponement of Due Date for Preliminary Determination

Section 703(b)(1) of the Tariff Act of 1930, as amended (the Act), requires the Department to issue the preliminary determination in a countervailing duty investigation within 65 days after the date on which the Department initiated the investigation. However, the Department may postpone making the preliminary determination until no later than 130 days after the date on which the administering authority initiated the investigation if, pursuant to section 703(c)(1)(B)(i) of the Act, the Department concludes that the parties concerned in the investigation are cooperating and determines that the investigation is extraordinarily complicated or, pursuant to 703(c)(1)(B)(ii) of the Act, the Department finds that “additional time is necessary to the make the preliminary determination.”

In the Korean investigation, the Department is currently investigating a number of complex alleged subsidy programs including loans from state-owned banks and lending programs where state-owned banks are using commercial banks as a means of financing Korean manufacturers and exporters. In the Argentine investigation, on March 5, 2009, petitioner submitted to the Department timely new subsidy allegations.¹ In that submission, currently under review by the Department, petitioner alleges that Clorindo Appo SRL (Clorindo), the mandatory respondent, received various energy rate subsidies, technical business assistance from an enterprise development center, government financing subsidies in the form of pre-export and post-export loans, import financing, investment financing for small and medium-sized enterprises, and working capital credit from government banks.

¹ Petitioner is Korff Holdings, LLC d/b/a Quaker City Castings.

Due to the number and complexity of the alleged subsidy programs at issue in the Korean investigation and in light of the new subsidy allegations at issue in the Argentine investigation, we find that we require additional time to complete the preliminary determinations in the respective investigations. Therefore, in accordance with section 703(c)(1)(B)(ii) of the Act, we are fully extending the due date for the preliminary determinations to no later than 130 days after the day on which the investigations were initiated. The deadline for completion of the preliminary determinations is now June 29, 2009.

This notice is issued and published pursuant to section 703(c)(2) of the Act.

Dated: March 16, 2009.
John M. Andersen,
Acting Deputy Assistant Secretary for Antidumping and Countervailing Duty Operations.

[FR Doc. E9-6150 Filed 3-19-09; 8:45 am]

BILLING CODE 3510-DS-P